DEPARTMENT OF ENERGY

Federal Energy Regulatory Commission

[Project No. 12608-000]

Alternatives Unlimited, Inc., Notice of Application Accepted for Filing and Soliciting Motions To Intervene and Protests

November 1, 2005.

Take notice that the following hydroelectric application has been filed with the Commission and is available for public inspection.

a. Type of Application: Exemption from Licensing.

b. Project No.: 12608-000.

c. Date filed: August 15, 2005.

d. Applicant: Alternatives Unlimited, Inc.

e. Name of Project: Alternatives Hydro Power Project.

f. Location: On the Mumford River, in the Town of Northbridge, Worcester County, Massachusetts. The project would not use Federal land.

g. Filed Pursuant to: Public Utility Regulatory Policies Act of 1978, 16 U.S.C. sections 2705 and 2708.

h. Applicant Contact: Kathleen D. Hervol. Beals and Thomas, Inc. Reservoir Corporate Center, 144 Turnpike Road (Route 9), Southborough, MA 01772-2104, (508) 366-0560.

i. FERC Contact: Stefanie Harris, (202) 502-6653 or stefanie.harris@ferc.gov.

j. Deadline for filing motions to intervene and protests: 60 days from the issuance date of this notice.

All documents (original and eight copies) should be filed with: Magalie R. Salas, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Motions to intervene and protests may be filed electronically via the Internet in lieu of paper. The Commission strongly encourages electronic filings. See 18 CFR 385.2001(a)(1)(iii) and the instructions on the Commission's Web site (http://www.ferc.gov) under the “e-Filing” link.

k. This application has been accepted for filing, but is not ready for environmental analysis at this time.

l. Description of Project: The Alternatives Hydro Power Project would consist of: (1) The existing 127-foot-long by 15.5-foot-high Ring Shop Dam consisting of a concrete 9.5-foot-high spillway topped with 2.5-foot-high flashboards, a waste gate, and two inlet structures located at the north and south ends of the spillway; (2) an existing 1.3-acre reservoir enlarged to 2 acres with a normal full pond elevation of 285.1 feet above mean sea level; (3) a restored 8-foot-wide head gated intake structure; (4) a new 23-foot by 6-foot metal service platform (to be enclosed for a future powerhouse) located at the south side of the dam containing three generating units with a total installed capacity of 45 kilowatts; and (5) appurtenant facilities. The restored project would have an average annual generation of 340 megawatt-hours.

m. A copy of the filing is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

You may also register online at http://www.ferc.gov/docs-filing/esubscription.asp to be notified via e-mail of new filings and issuances related to this or other pending projects. For assistance, contact FERC Online Support.

n. Anyone may submit a protest or a motion to intervene in accordance with the requirements of Rules of Practice and Procedure, 18 CFR 385.210, 385.211, and 385.214. In determining the appropriate action to take, the Commission will consider all protests filed, but only those who file a motion to intervene in accordance with the Commission's Rules may become a party to the proceeding. Any protests or motions to intervene must be received on or before the specified deadline date for the particular application.

All filings must (1) Bear in all capital letters the title “PROTEST” or “MOTION TO INTERVENE;” (2) set forth in the heading the name of the applicant and the project number of the application to which the filing responds; (3) furnish the name, address, and telephone number of the person protesting or intervening; and (4) otherwise comply with the requirements of 18 CFR 385.2001 through 385.2005. Agencies may obtain copies of the application directly from the applicant. A copy of any protest or motion to intervene must be served upon each representative of the applicant specified in the particular application.

Magalie R. Salas,
Secretary.

[FR Doc. E5-6159 Filed 11-4-05; 8:45 am]

BILLING CODE 6717-01-P